ENVIRONMENTAL PROTECTION AGENCY

[FRL-8726-4]

Cross-Media Electronic Reporting Rule State Authorized/Approved Program Modification/Revision Approval: State of Oklahoma

AGENCY: Environmental Protection Agency (EPA).

ACTION: Notice.

SUMMARY: This action announces EPA's approval, under regulations for Cross-Media Electronic Reporting, of the State of Oklahoma's request for modifications/revisions to their authorized programs to allow electronic reporting for certain of their authorized programs under title 40 and specific reports.

DATES: EPA's approval is effective October 7, 2008.

FOR FURTHER INFORMATION CONTACT: Evi Huffer, U.S. Environmental Protection Agency, Office of Environmental Information, Mail Stop 2823T, 1200 Pennsylvania Avenue, NW., Washington, DC 20460, (202) 566-1697, huffer.evi@epa.gov, or David Schwarz, U.S. Environmental Protection Agency, Office of Environmental Information, Mail Stop 2823T, 1200 Pennsylvania Avenue, NW., Washington, DC 20460, (202) 566-1704, schwarz.david@epa.gov.

SUPPLEMENTARY INFORMATION: On October 13, 2005, the final Cross-Media Electronic Reporting Rule (CROMERR) was published in the Federal Register (70 FR 59848) and codified as Part 3 of Title 40 of the CFR. CROMERR establishes electronic reporting as an acceptable regulatory alternative to paper reporting and establishes requirements to assure that electronic documents are as legally dependable as their paper counterparts. Subpart D of CROMERR requires that state, tribe, or local government agencies that receive, or wish to begin receiving, electronic reports under their EPA-authorized programs must apply to EPA for a revision or modification of those programs and get EPA approval. Subpart D also provides standards for such approvals based on consideration of the electronic document receiving systems that the state, tribe, or local government will use to implement the electronic reporting. Additionally, in § 3.1000 (b) through (e) of 40 CFR Part 3, Subpart D provides for special procedures for program revisions and modifications that provide for electronic reporting, to be used at the option of the state, tribe, or local government in place of procedures available under existing program-specific authorization regulations. An application submitted under the Subpart D procedures must show that the state, tribe or local government has sufficient legal authority to implement the electronic reporting component of its authorized programs covered by the application and will use electronic document receiving systems that meet the applicable Subpart D requirements.

On September 7, 2007, the State of Oklahoma Department of Environmental Quality (OKDEQ) submitted a consolidated application for their Electronic Document Receiving System (ERDS) addressing revisions or modifications to multiple authorized/approved programs under air, water, and waste.

EPA has reviewed OKDEQ's request to revise or modify multiple authorized/approved programs and, based on this review, EPA has determined that portions of the application relating to the programs and specific reports identified in this Notice, when compared to the federal regulations, meet the standards for approval of authorized program revisions set out in 40 CFR part 3, subpart D. In accordance with 40 CFR 3.1000(d), this notice of EPA's decision to approve OKDEQ's request for modifications/revisions to certain of their authorized programs under title 40 to allow electronic reporting for specific reports under those programs is being published in the Federal Register.

EPA has approved OKDEQ's request for modifications/revisions to following of their authorized programs to allow electronic reporting for the specified reports:

• Program: Part 60 Standards of Performance for New Stationary Sources; Reports: New Source Performance Standards Reports under § 60.7, and Continuous Emissions Monitors/Continuous Opacity Monitors under § 60.7(c) and (d);

• Program: Part 61 National Emission Standards For Hazardous Air Pollutants (NESHAP); Report: NESHAP Reports Notification of Start Up under § 61.09;

• Program: Part 63 NESHAP for Source Categories; Reports: Continuous Emissions Monitors/Continuous Opacity Monitors under § 63.10(e)(3), and Maximum Achievable Control Technology Reports under § 63.9;

• Program: Part 70 State Operating Permit Programs; Reports: Annual Compliance Certifications under § 70.6, and Semi-Annual Monitoring and Deviation Reports (SAR) under § 70.6;

• Program: Part 122 EPA Administered Permit Programs: The National Pollutant Discharge Elimination System (NPDES); Reports: Stormwater Notice of Intent/Notice of Termination under § 122.26, and Wastewater Daily Monitoring Reports (NPDES) under § 122.41;

• Programs: Parts 144 through 148 Underground Injection Control (UIC) Program, State UIC Program Requirements, UIC Program: Criteria and Standards, State UIC Programs, and Hazardous Waste Injection Restrictions; Report: UIC Permit Applications;

• Program: Part 261 Identification And Listing Of Hazardous Waste; Report: Regulated Waste Activity Notification;

• Program: Part 270 EPA Administered Permit Programs: The Hazardous Waste Permit Program; Report: EPA Hazardous Waste Permit Application Part A Form (EPA Form 8700-23).

OKDEQ was notified of EPA's determination to approve its application relating to the authorized programs and specific reports listed above in a letter dated September 26, 2008.

Dated: September 26, 2008.
Molly A. O'Neill,
Assistant Administrator and Chief Information Officer.

[FR Doc. E8-23693 Filed 10-6-08; 8:45 am]

BILLING CODE 6560-50-P